DEPARTMENT OF HOMELAND SECURITY

Agency Information Collection Activities: DHS OIG Audit of FEMA's Assistance to Firefighters Grant Program, DHS Form 530, DHS Form 531, DHS Form 532

AGENCY: Office of Inspector General, Office of Audits, DHS.

ACTION: 30-Day Notice and request for comments; New Collection, 1601-NEW.

SUMMARY: The Department of Homeland Security, Office of Inspector General, Office of Audits, will submit the following Information Collection Request (ICR) to the Office of Management and Budget (OMB) for review and clearance in accordance with the Paperwork Reduction Act of 1995 (Pub. L. 104-13, 44 U.S.C. Chapter 35). DHS previously published this information collection request (ICR) in the Federal Register on Thursday, October 2, 2014 at 79 FR 59500 for a 60-day public comment period. No comments were received by DHS. The purpose of this notice is to allow additional 30-days for public comments.

DATES: Comments are encouraged and will be accepted until January 20, 2015. This process is conducted in accordance with 5 CFR 1320.1

ADDRESSES: Interested persons are invited to submit written comments on the proposed information collection to the Office of Information and Regulatory Affairs, Office of Management and Budget. Comments should be addressed to OMB Desk Officer, Department of Homeland Security and sent via electronic mail to oira_submission@omb.eop.gov or faxed to (202) 395-5806.

SUPPLEMENTARY INFORMATION: This information collection is mandatory for grantees selected in a random sample of fiscal year 2010 to fiscal year 2012 Assistance to Firefighter (AFG) grants and Staffing for Adequate Fire and Emergency Response (SAFER) grants.

The Department of Homeland Security's (DHS) Office of Inspector General (OIG) is conducting an audit to determine whether the Federal Emergency Management Agency's (FEMA) oversight and monitoring of Assistance to Firefighter Grant Program recipients ensures that grantees comply with grant requirements and guidance precluding waste, fraud, and abuse of grant funds. The DHS OIG will use the data collected to determine whether FEMA's current monitoring and grant management efforts comply with Federal regulations, as well as FEMA's Assistance to Firefighter Grant Program requirements. The DHS OIG will make recommendations to FEMA to address any programmatic challenges identified during the audit.

The Inspector General Act of 1978, as amended, stipulates that Inspectors General conduct and supervise audits to provide a means for keeping the head of the establishment and the Congress fully and currently informed about problems and deficiencies relating to the administration of such programs and operations and the necessity for and progress of corrective action. In addition, as such, they have access to all records, reports, audits, reviews, documents, papers, recommendations, or other material that relate to programs and operations with respect to which that Inspector General has responsibilities under this Act.

Additionally, financial and programmatic monitoring requirements are set forth in 44 CFR part 13, Uniform Administrative Requirements for Grants and Cooperative Agreements to State and Local Government or 2 CFR part 215, Uniform Administrative Requirements for Grants and Agreements with Institutions of Higher Education, Hospitals, and Other Non-Profit Organizations. Per FEMA grant guidance and grant award letters, grant recipients are required to conform to either 44 CFR part 13 or 2 CFR part 215. Both regulations stipulate that records must be retained for three years after submission of the final expenditure report for the grant.

Finally, both 44 CFR 13.43 and 2 CFR 215.53 provide the Inspector General the right of timely and unrestricted access to any records of recipients that are pertinent to the awards, in order to make audits, examinations, excerpts, transcripts and copies of such documents. The collection information will be used by the DHS OIG to conduct an audit of FEMA's oversight and management of the Assistance to Firefighters Grant Program—specifically the Assistance to Firefighters (AFG) and Staffing for Adequate Fire and Emergency Response (SAFER) sub-programs. This information will be used to respond to the audit's objective, which is to determine the extent to which Assistance to Firefighter grant recipients comply with grant requirements and guidance precluding waste, fraud, and abuse of grant funds.

The information will be requested in an email sent to each grantee's point of contact information in FEMA's eGrant database. DHS Forms 530, 531, and 532 detail the information being collected from each grantee. Each attachment is specific to the type of grant awarded. The email will have one attachment specific to the grant awarded.

A cover email (Grantee Email from OIG) provides guidance for submitting the requested information.

Once the information is collected from the grantee, the DHS OIG will analyze this information based on established criteria to determine if grantees complied with these criteria to preclude waste, fraud, and abuse of grant funds. The information will also be used to determine if FEMA provided adequate oversight and monitoring of these grant programs.

This results of this analysis will be presented in two audit reports—one for AFG grants and one for SAFER grants. These reports will include recommendations to FEMA based on the results of the analysis.

The preferred submission method for collection of this information will be via electronic mail. However, regular mail options for hard copies or scanned copies on electronic media will be available should the grantee not have access to the internet.

An email will be sent to the grantee with the appropriate form for the type of grant attached. The email (Grantee Email from OIG) provides guidance to the grantee on how to respond to this request.

A specific form will be sent for each the three types of grants in the sample—AFG (DHS Form 532), SAFER Hiring (DHS Form 530), or SAFER Recruitment and Retention (DHS Form 531). Each form has questions and document requests specific to that type of grant.

Each form requests documents that may be available on the internet. If information is available on the internet (for example, grantee procurement policies) and the grantee provides this location of this information, the DHS OIG will download this information from the Web site.

The burden has been reduced on the grantee because the DHS OIG is only requesting information the grantee is required to retain and does not normally submit to FEMA including items such as invoices for items/services purchased, written procurement policies and proof of payment to vendors for items/services purchased.

Grantees are required to maintain grant records for three years after the submission of their final expenditure report. It is estimated that no more than 28 respondents (five percent) will mail their records to the DHS Office of Inspector General. The cost to mail a five pound box of records to the Office of Inspector General's Denver Field Office using the United States Postal Service's Standard Post is $14.33. The estimated total annual cost burden is $401.24. The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Inspector General, Office of Audits, DHS.

Title: DHS OIG Audit of FEMA's Assistance to Firefighters Grant Program.

OMB Number: 1601—NEW.

Frequency: State, Local, or Tribal Government.

Affected Public: State, Local, or Tribal Government.

Number of Respondents: 556.

Estimated Time per Respondent: 2 hours.

Total Burden Hours: 1112.

Estimated Annual Cost: $401.24.

Dated: December 10, 2104.
Carlene C. Ileto,
Executive Director, Enterprise Business Management Office.

[FR Doc. 2014-29775 Filed 12-18-14; 8:45 am]

BILLING CODE 9110-9B-P